ENVIRONMENTAL PROTECTION AGENCY

40 CFR Part 63

[EPA-HQ-OAR-2018-0074; FRL-10006-88-OAR]

RIN 2060-AT86

National Emission Standards for Hazardous Air Pollutants: Organic Liquids Distribution (Non-Gasoline) Residual Risk and Technology Review

Correction

63.14 [Corrected]

In rule document 2020-05900, appearing on pages 40740 through 40791 in the issue of Tuesday, July 7, 2020, make the following corrections.

1. On page 40760, in the second column, amendatory instruction 2 d. for § 63.14 should read as follows:

“ d. By redesignating paragraphs (h)(102) through (113) as paragraphs (h)(104) through (115), respectively;”.

§ 63.14 Incorporations by reference. [Corrected]

2. On the same page, in the same column, the section heading for 63.14 should read as set forth above.

[FR Doc. C1-2020-05900 Filed 7-9-20; 8:45 am]

BILLING CODE 1301-00-D